DEPARTMENT OF VETERANS AFFAIRS

[OMB Control No. 2900-0892]

Agency Information Collection Activity Under OMB Review: Request for Reimbursement of Preparatory (PREP) Course for Licensing or Certification Test

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by January 8, 2025.

ADDRESSES: To submit comments and recommendations for the proposed information collection, please type the following link into your browser: www.reginfo.gov/public/do/PRAMain, select “Currently under Review—Open for Public Comments”, then search the list for the information collection by Title or “OMB Control No. 2900-0892.”

FOR FURTHER INFORMATION CONTACT:

VA PRA information: Maribel Aponte, 202-461-8900, vacopaperworkreduact@va.gov.

SUPPLEMENTARY INFORMATION:

Title: Request for Reimbursement of Preparatory (PREP) Course for Licensing or Certification Test, VA Form 22-10272.

OMB Control Number: 2900-0892, https://www.reginfo.gov/public/do/PRASearch.

Type of Review: Revision of a currently approved collection.

Abstract: The information collected on the VA Form 22-10272 will be utilized to permit beneficiaries to apply for reimbursement of approved preparatory courses taken to assist with preparing for a Licensing or Certification Test. VA will use data from this information collection to ensure eligible Post 9/11 GI Bill (chapter 33) and Survivors' and Dependents' Educational Assistance (DEA or chapter 35) can receive payment for attending and completing the approved preparatory course. Without the utilization of this form, eligible beneficiaries will not be able to apply for the reimbursement they may be rightly entitled to pursuant to 38 U.S.C. 3315B.

An agency may not conduct or sponsor, and a person is not required to respond to a collection of information unless it displays a currently valid OMB control number. The Federal Register Notice with a 60-day comment period soliciting comments on this collection of information was published at 89 FR 80631-80632, October 3, 2024.

Affected Public: Individuals and Households.

Estimated Annual Burden: 10 hours.

Estimated Average Burden per Respondent: 15 minutes.

Frequency of Response: Occasionally.

Estimated Number of Respondents: 41.

Authority: 44 U.S.C. 3501 et seq.

Maribel Aponte,
VA PRA Clearance Officer, Office of Enterprise and Integration, Data Governance Analytics, Department of Veterans Affairs.

[FR Doc. 2024-28827 Filed 12-6-24; 8:45 am]

BILLING CODE 8320-01-P